DEPARTMENT OF COMMERCE

Foreign-Trade Zones Board

[Docket B-26-2014]

Foreign-Trade Zone (FTZ) 39—Dallas-Fort Worth, Texas, Application for Production Authority, CSI Calendering, Inc. (Rubber Coated Textile Fabric), Extension of Comment Period on Submission of New Evidence

The comment period provided to allow interested parties to respond to the applicant's submission of new evidence for the record on June 6, 2014 (see 79 FR 34285, June 16, 2014) is being extended upon request to August 15, 2014, to allow interested parties additional time in which to comment. Submissions shall be addressed to the FTZ Board's Executive Secretary at the following address: Office of the Executive Secretary, Foreign-Trade Zones Board, Room 21013, U.S. Department of Commerce, 1401 Constitution Avenue NW., Washington, DC 20230-0002.

For further information, contact Pierre Duy at Pierre.Duy@trade.gov or (202) 482-1378.

Dated: July 11, 2014.
Andrew McGilvray,
Executive Secretary.

[FR Doc. 2014-16863 Filed 7-17-14; 8:45 am]

BILLING CODE 3510-DS-P